DEPARTMENT OF STATE

[Delegation of Authority No. 479-2]

Delegation of the Authority of the Assistant Secretary for Western Hemisphere Affairs To Invoke the Deliberative-Process Privilege

ACTION: Delegation of authority.

SUMMARY: The State Department is publishing a Delegation of Authority signed by Assistant Secretary for Western Hemisphere Affairs on July 10, 2024.

SUPPLEMENTARY INFORMATION: Brian A. Nichols, Assistant Secretary for Western Hemisphere Affairs, signed the following “Delegation of Authority to the Deputy Assistant Secretaries, for Western Hemisphere Affairs” on July 10, 2024. The State Department maintains the original document.

(Begin text.)

By virtue of the authority vested in me by the Secretary of State in Delegation of Authority No. 479, dated December 17, 2019, and to the extent authorized by law, I hereby re-delegate to the Deputy Assistant Secretaries of State for Western Hemisphere Affairs the authority to assert the deliberative-process privilege in judicial and administrative proceedings.

Nothing in this delegation of authority shall be deemed to supersede or otherwise affect any other delegation of authority. This delegation shall expire upon the entry upon duty of a subsequently appointed or designated Assistant Secretary for Western Hemisphere Affairs, unless sooner revoked.

This document will be published in the Federal Register.

(End text.)

Kevin E. Bryant,
Deputy Director, Office of Directives Management, Department of State.

[FR Doc. 2024-15646 Filed 7-16-24; 8:45 am]

BILLING CODE 4710-29-P